DEPARTMENT OF TRANSPORTATION

Federal Transit Administration

Fiscal Year 2011 Public Transportation on Indian Reservations Program Project Selections

AGENCY: Federal Transit Administration, DOT.

ACTION: Tribal Transit Program announcement of project selections.

SUMMARY: The U.S. Department of Transportation's (DOT) Federal Transit Administration (FTA) announces the selection of projects funded with Section 5311 (c), Public Transportation on Indian Reservations program funds in support of the Tribal Transit Program. Funding was announced in the Tribal Transit Program (TTP) Notice of Funding Availability on July 25, 2011. The TTP makes funds available to federally recognized Indian Tribes or Alaska Native villages, groups, or communities in support of capital projects, operating costs, and planning activities for public transportation services on and around Indian reservations.

FOR FURTHER INFORMATION CONTACT: Successful and unsuccessful applicants should contact the appropriate FTA Regional office (Appendix A) for information regarding applying for the funds or program specific information. In the event the contact information provided by your tribe in the application has changed, please contact your tribal liaison with the current information in order to expedite the grant award process. For general program information, contact Lorna R. Wilson, Office of Transit Programs, at (202) 366-0893, email: Lorna.Wilson@dot.gov. A TDD is available at 1-(800) 877-8339 (TDD/FIRS).

SUPPLEMENTARY INFORMATION: A total of $15.075 million is available for the FY 2011 Tribal Transit program. A total of 116 applicants requested $41.587 million, indicating significant demand for funds for new transit services, enhancement or expansion of existing transit services, and planning studies including operational planning. Project proposals were evaluated based on each applicant's responsiveness to the program evaluation criteria outlined in FTA's, July 25, 2011 NOFA. FTA also took into consideration the current status of previously funded applicants. A total of 67 applications have been selected for funding. The projects selected as shown in Table 1 will provide funding for transit planning studies/and or operational planning, startup projects for new transit service, and for the operational expenses of existing transit services.

Project Implementation: Grantees selected for competitive discretionary funding should work with their FTA regional office to finalize the grant application in FTA's Transportation Electronic Awards Management System (TEAM) for the projects identified in Table I so that funds can be obligated expeditiously. FTA funds may only be used for eligible purposes defined under 49 U.S.C 5311 and described in FTA Circular 9040.1F. In cases where the allocation amount is less than the proposer's requested amount, grantees should work with their regional office to reduce scope or scale the project such that a completed phase or project is accomplished. A discretionary project identification number has been assigned to each project for tracking purposes and must be used in the TEAM application. The post-award reporting requirements include submission of the Federal Financial Report (FFR) and Milestone Report in TEAM as appropriate (see FTA Circular 9040. IF).

The grantee must comply with all applicable Federal statutes, regulations, executive orders, FTA circulars, and other Federal requirements in carrying out the project supported by the FTA grant. Funds allocated in this announcement must be obligated in a grant by September 30, 2014.

Issued in Washington, DC, this 29th day of December, 2011.
Peter M. Rogoff,
Administrator.

Appendix A

FTA Regional and Metropolitan Offices
Mary Beth Mello, Regional Administrator, Region 1-Boston, Kendall Square, 55 Broadway, Suite 920, Cambridge, MA 02142-1093, Tel. (617) 494-2055. | Robert C. Patrick, Regional Administrator, Region 6-Ft. Worth, 819 Taylor Street, Room 8A36, Ft. Worth, TX 76102, Tel. (817) 978-0550.
Regional Tribal Liaisons: Laurie Ansaldi and Judi Molloy. | Regional Tribal Liaison: Lynn Hayes.
States served: Connecticut, Maine, Massachusetts, New Hampshire, Rhode Island, and Vermont. | States served: Arkansas, Louisiana, Oklahoma, New Mexico and Texas.
Anthony Carr, Acting Regional Administrator, Region 2-New York, One Bowling Green, Room 429, New York, NY 10004-1415, Tel. (212) 668-2170, Regional Tribal Liaison: Darin Allan. | Mokhtee Ahmad, Regional Administrator, Region 7-Kansas City, MO, 901 Locust Street, Room 404, Kansas City, MO 64106, Tel. (816) 329-3920.
States served: New Jersey, New York. | Regional Tribal Liaisons: Joni Roeseler and Cathy Monroe.
New York Metropolitan Office, Region 2-New York, One Bowling Green, Room 428, New York, NY 10004-1415, Tel. (212) 668-2202. | States served: Iowa, Kansas, Missouri, and Nebraska.
Brigid Hynes-Cherin, Regional Administrator, Region 3-Philadelphia, 1760 Market Street, Suite 500, Philadelphia, PA 19103-4124, Tel. (215) 656-7100. | Terry Rosapep, Regional Administrator, Region 8-Denver, 12300 West Dakota Ave., Suite 310, Lakewood, CO 80228-2583, Tel. (720) 963-3300.
States served: Delaware, Maryland, Pennsylvania, Virginia, West Virginia, and District of Columbia. | Regional Tribal Liaisons: Jennifer Stewart and David Beckhouse.
Washington, D.C. Metropolitan Office, 1990 K Street, NW., Room 510, Washington, DC 20006, Tel. (202) 219-3562. | States served: Colorado, Montana, North Dakota, South Dakota, Utah, and Wyoming.
Yvette Taylor, Regional Administrator, Region 4-Atlanta, 230 Peachtree Street, NW Suite 800, Atlanta, GA 30303, Tel. (404) 865-5600. | Leslie T. Rogers, Regional Administrator, Region 9-San Francisco, 201 Mission Street, Room 1650, San Francisco, CA 94105-1926, Tel. (415) 744-3133.
Regional Tribal Liaison: Tajsha LaShore | Regional Tribal Liaison: Eric Eidlin.
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office, Region 9-Los Angeles, 888 S. Figueroa Street, Suite 1850, Los Angeles, CA 90017-1850, Tel. (213) 202-3952.
Marisol Simon, Regional Administrator, Region 5-Chicago, 200 West Adams Street, Suite 320, Chicago, IL 60606, Tel. (312) 353-2789. | Rick Krochalis, Regional Administrator, Region 10-Seattle, Jackson Federal Building, 915 Second Avenue, Suite 3142, Seattle, WA 98174-1002, Tel. (206) 220-7954.
Regional Tribal Liaisons: Joyce Taylor and Angelica Salgado | Regional Tribal Liaison: Bill Ramos.
States served: Illinois, Indiana, Michigan, Minnesota, Ohio, and Wisconsin. | States served: Alaska, Idaho, Oregon, and Washington.
Chicago Metropolitan Office, Region 5-Chicago, 200 West Adams Street, Suite 320, Chicago, IL 60606, Tel. (312) 353-2789.

BILLING CODE 4910-57-P

[FR Doc. 2011-33780 Filed 1-4-12; 8:45 am]

BILLING CODE 4910-57-C